NUCLEAR REGULATORY COMMISSION

[NRC-2009-0303]

Notice of Availability of Interim Staff Guidance Document for Fuel Cycle Facilities

AGENCY: Nuclear Regulatory Commission.

ACTION: Notice of availability.

FOR FURTHER INFORMATION CONTACT: Tamara D. Powell, Nuclear Process Engineer, Technical Support Branch, Division of Fuel Cycle Safety and Safeguards, Office of Nuclear Material Safety and Safeguards, U.S. Nuclear Regulatory Commission, Washington, DC 20005-0001. Telephone: (301) 492-3211; Fax: (301) 492-3363; E-mail: Tamara.Powell@nrc.gov.

SUPPLEMENTARY INFORMATION:

I. Introduction

The Nuclear Regulatory Commission (NRC) prepares and issues Interim Staff Guidance (ISG) documents for fuel cycle facilities. These ISG documents provide clarifying guidance to the NRC staff when reviewing licensee's integrated safety analyses (ISA), license applications, amendment requests, or other related licensing activities for fuel cycle facilities under Title 10 of the Code of Federal Regulations (10 CFR) Part 70. This notice is being published to inform the public that after general revision based on NRC staff and public comment, FCSS-ISG-12, Revision 0, “10 CFR Part 70, Appendix A—Reportable Safety Events,” Revision 0, has been issued and is provided for information, however additional comments will be accepted. The final disposition of the information addressed in this guidance may later be issued as an NRC Regulatory Guide.

II. Discussion of Significant Comments and Changes

On July 10, 2009, notice was given in the Federal Register (74 FR 33281) of the availability for public comment of the draft of FCSS-ISG-12 (then numbered FCSS-ISG-11). In response to comments received on the draft ISG, the following modifications were made.

The NRC made minor editorial changes and re-numbered the ISG to be consistent with existing Fuel Cycle Safety and Safeguards ISG documents. In addition, there was a general comment from one commentator about the NRC's interpretation of when event “discovery” occurs. The commentator considers event “discovery” to have occurred after the initial event has been observed, appropriate internal notifications made, and a licensee determination made that the event meets the applicable reporting requirements. The commentator further believes that the time of “discovery” will vary because it is driven by the culmination of three actions, and, as such, should not be determined based solely upon the occurrence of the actual event or the observation. The NRC agrees that event “discovery” will vary and starts when an individual who, by position or experience, is expected to understand that a particular condition or event adversely impacts safety observes, identifies, or is notified of a safety significant event or condition. The NRC, however, does not agree that the time of “discovery” is delayed until after the licensee has determined reportability. As stated in the guidance, the twenty-four hour time period for reportable events allows for this evaluation and determination step. The more substantive comments on the draft ISG are summarized below along with the NRC's response.

Proposed Time of Discovery Section

Some general editorial comments were suggested by the commentator related to the event “discovery” concern discussed above; however, the NRC determined that the proposed changes in wording could create ambiguity so no changes were made. There was also a recommendation that the third example in Table 1, “Examples of Discovery Determination,” be changed to state that the time of “discovery” would be when the operator informed the supervisor of the possible exposure not when the operator realized that he would have been exposed. The staff reviewed the suggested revision and determined that a cognizant individual, as defined earlier in the guidance, may not necessarily be aware of the NRC reporting requirements, but should understand when a condition impacts safety. The NRC expects that operators would be trained to recognize, when possible, when they may have received an acute exposure to a hazardous material such as UF6, therefore no change to the wording was made.

Loss or Degradation of Items Relied on for Safety (IROFS) Section

The last sentence of this section states that all situations where IROFS have failed or degraded are reportable. One commentator suggested that this section be edited to remove this statement because IROFS may have failed or become degraded without meeting the reporting requirement. The NRC disagreed with removing this statement, but rearranged the section for clarity. The intent of “all other situations” in the sentence in question was meant to apply to those situations not discussed in the section.

Inadequate ISA Section

The NRC did not receive any comments on this section, however substantial edits were made. The use of the concept “creditable controls” and the term “non-IROFS” were removed from this section. 10 CFR 70.61 (e) requires that the controls needed to meet the performance requirements be designated as IROFS. The NRC determined that using “non-IROFS” in combination with available IROFS to meet the performance requirements was not supported by the regulations.

Press Release Section

With respect to licensee-issued press releases, the guidance states that routine radiation releases are not specifically reportable under Appendix A unless the release receives media attention. One commentator indicated that 10 CFR Part 70 licensees issue semi-annual reports on effluent releases which are routine radiation releases of low safety significance. The commentator felt that simple media inquiries about these routine radiation releases should not result in a required report to the NRC. The regulation states that, “[a]ny event or situation related to the health and safety of the public or onsite personnel, or protection of the environment, for which a news release is planned…shall be reported.” In the example of an effluent release which has some impact on the environment, media attention would likely result and should be reported. The NRC agrees that simple media inquiries may not necessarily result in reportability, but if a news release is planned in response to such inquiries, this would be reportable. The NRC revised the section to clarify that radiation releases that receive “significant media attention” would be reportable under paragraph (c) of Appendix A to 10 CFR Part 70.

Attachment C

The commentator provided a suggested revision to the flow chart in Attachment C. The NRC reviewed the suggested changes and determined that if followed, the revised flow chart would lead to the failure to report under paragraph (a)(5) of Appendix A. Therefore, the NRC did not incorporate the suggested revisions and removed the flow chart from the ISG.

Glossary Section

The NRC agreed with the commentator that the definition for “degraded IROFS” should be modified to ensure consistency of use throughout the guidance. The NRC incorporated, in part, the suggested change. The NRC did not incorporate that portion of the suggested change which would have stated that a degraded IROFS was also an IROFS that is “potentially unable to perform the required safety function.” The NRC determined that an IROFS meeting this part of the definition would, in many cases, be considered a failed IROFS and did not include this portion in the revision. The NRC also removed the definitions of “non-IROFS” and “creditable control” for the reasons discussed earlier in this notice.

III. Further Information

The NRC maintains an Agencywide Documents Access and Management System (ADAMS), which provides text and image files of NRC's public documents. These documents may be accessed through the NRC's Public Electronic Reading Room on the Internet at http://www.nrc.gov/reading-rm/adams.html. The ADAMS accession number for the document related to this notice is provided in the following table.

Interim staff guidance | ADAMS accession No.
FCSS Interim Staff Guidance-12, Revision 0 | ML102020267

This document may also be viewed electronically on the public computers located at the NRC's PDR, O1-F21, One White Flint North, 11555 Rockville Pike, Rockville, MD 20852. The PDR reproduction contractor will copy documents for a fee. Persons who do not have access to ADAMS or who encounter problems in accessing the documents located in ADAMS should contact the NRC Public Document Room (PDR) reference staff at 1(800) 397-4209, (301) 415-4737, or via e-mail to pdr@nrc.gov.

Dated at Rockville, Maryland, this 21 day of July 2010.
For the Nuclear Regulatory Commission.
Marissa G. Bailey,
Deputy Director,Special Projects and Technical Support Directorate, Division of Fuel Cycle Safety and Safeguards, Office of Nuclear Material Safety and Safeguards.

[FR Doc. 2010-19015 Filed 8-2-10; 8:45 am]

BILLING CODE 7590-01-P